DEPARTMENT OF LABOR

Agency Information Collection Activities; Submission for OMB Review; Comment Request; Retirement Savings Lost and Found

ACTION: Notice of availability; request for comments.

SUMMARY: The Department of Labor (DOL) is submitting this Employee Benefits Security Administration (EBSA)-sponsored information collection request (ICR) to the Office of Management and Budget (OMB) for review and approval in accordance with the Paperwork Reduction Act of 1995 (PRA). Public comments on the ICR are invited.

DATES: The OMB will consider all written comments that the agency receives on or before October 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Michael Howell by telephone at 202-693-6782, or by email at DOL_PRA_PUBLIC@dol.gov.

SUPPLEMENTARY INFORMATION: Section 523(a) of the Retirement Income Security Act of 1974 (ERISA) requires the Department of Labor (Department), in consultation with the U.S. Treasury Department, to establish an online searchable database called the Retirement Savings Lost and Found (Lost and Found) no later than December 29, 2024. The Department has the sole responsibility for establishing and maintaining the Lost and Found. The Lost and Found online searchable database will enable individuals to locate benefits they are owed by providing them with contact information for their plan administrator, the designated trustee or issuer described in section 401(a)(31)(B) of the Internal Revenue Code of 1986 (Code), or the issuer of an annuity described in section 523(e)(3)(C) of ERISA.

Plan administrators have reported much of the information needed for the establishment of the Lost and Found to the Internal Revenue Service (IRS) on Form 8955-SSA (Annual Registration Statement Identifying Separated Participants with Deferred Vested Benefits) and its predecessor Schedule SSA to the Form 5500. However, citing concerns under section 6103 of the Internal Revenue Code (Code), IRS has determined it will not unconditionally authorize release of this data to the Department for the purpose of communicating either directly with participants and beneficiaries about retirement plans that may still owe them retirement benefits or indirectly through the Lost and Found online searchable database. Accordingly, the Department is proposing to request plan administrators to voluntarily furnish the information specified below directly to the Department. For additional substantive information about this ICR, see the related notice published in the Federal Register on April 16, 2024 (89 FR 26932).

Comments are invited on: (1) whether the collection of information is necessary for the proper performance of the functions of the Department, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-EBSA.

Title of Collection: Retirement Savings Lost and Found.

OMB Control Number: 1210-0NEW.

Affected Public: Private sector, Business or other for profits.

Total Estimated Number of Respondents: 150,920.

Total Estimated Number of Responses: 150,940.

Total Estimated Annual Time Burden: 26,017 hours.

Total Estimated Annual Other Costs Burden: $0.

(Authority: 44 U.S.C. 3507(a)(1)(D))

Michael Howell,
Senior Paperwork Reduction Act Analyst.

[FR Doc. 2024-20684 Filed 9-11-24; 8:45 am]

BILLING CODE 4510-29-P